DEPARTMENT OF TRANSPORTATION

Federal Aviation Administration

14 CFR Part 39

[Docket No. 2001-NM-341-AD]

RIN 2120-AA64

Airworthiness Directives; Boeing Model 757-200 and 200PF Series Airplanes Equipped With Pratt and Whitney PW2000 Series Engines

AGENCY: Federal Aviation Administration, DOT.

ACTION: Notice of proposed rulemaking (NPRM).

SUMMARY: This document proposes to revise an existing airworthiness directive (AD), applicable to certain Boeing Model 757 series airplanes, that currently requires inspections, adjustments, and functional checks of the engine thrust reverser system; and modification of the engine thrust reverser directional control valve. The existing AD also requires installation of an additional thrust reverser locking feature and periodic functional tests of the locking feature following installation. This action would reduce the applicability in the existing AD. The actions specified by this AD are intended to prevent deployment of a thrust reverser in flight and subsequent reduced controllability of the airplane.

DATES: Comments must be received by November 22, 2002.

ADDRESSES: Submit comments in triplicate to the Federal Aviation Administration (FAA), Transport Airplane Directorate, ANM-114, Attention: Rules Docket No. 2001-NM-341-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-341-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: John Vann, Aerospace Engineer, Propulsion Branch, ANM-140S, FAA, Seattle Aircraft Certification Office, 1601 Lind Avenue, SW., Renton, Washington 98055-4056; telephone (425) 227-1024; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-341-AD.” The postcard will be date stamped and returned to the commenter.

Availability of NPRMs

Any person may obtain a copy of this NPRM by submitting a request to the FAA, Transport Airplane Directorate, ANM-114, Attention: Rules Docket No. 2001-NM-341-AD, 1601 Lind Avenue, SW., Renton, Washington 98055-4056.

Discussion

On January 3, 1994, the FAA issued AD 94-01-10, amendment 39-8792 (FR 59 FR 4558, February 1, 1994), applicable to certain Boeing Model 757 series airplanes, to require inspections, adjustments, and functional checks of the engine thrust reverser system; and modification of the engine thrust reverser directional control valve. That action also requires installation of an additional thrust reverser locking feature and periodic functional tests of the locking feature following installation. That action was prompted by results of a safety review of the thrust reverser system on these airplanes. The requirements of that AD are intended to prevent deployment of a thrust reverser in flight and subsequent reduced controllability of the airplane.

Actions Since Issuance of Previous Rule

Since the issuance of AD 94-01-10, we have determined that the applicability in that AD (Boeing Model 757 series airplanes equipped with Pratt and Whitney PW2000 series engines) should be limited to Boeing Model 757-200 and -200PF series airplanes equipped with Pratt and Whitney PW2000 series engines. This determination was made because the intervals for the repetitive inspections of the engine thrust reverser system for Model 757-300 series airplanes, as required by the existing AD, have been included as a certification maintenance requirement in the airplane certification program.

Explanation of Requirements of Proposed Rule

Since an unsafe condition has been identified that is likely to exist or develop on other products of this same type design, the proposed AD would revise AD 94-01-10 to continue to require the same actions specified in the existing AD, and would reduce the applicability.

Cost Impact

Since this proposed AD would merely delete airplanes from the applicability of the proposed rule, it would add no additional costs, and would require no additional work to be performed by affected operators. The current costs associated with this amendment are reiterated below for the convenience of affected operators:

The FAA estimates that 270 airplanes of U.S. registry would be affected by this proposed AD.

It will take approximately 624 work hours per airplane to accomplish the modification required by AD 94-01-10, at an average labor rate of $60 per work hour. Required parts will be supplied by the manufacturer at no cost to operators. Based on these figures, the cost impact of the modification currently required by this AD is estimated to be $37,440 per airplane.

It will take approximately 1 work hour per airplane to accomplish the periodic functional tests required by AD 94-01-10, at an average labor rate of $60 per work hour. Based on these figures, the cost impact of the periodic functional tests currently required by this AD on U.S. operators is estimated to be $60 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8792 ( FR 59 FR 4558, February 1, 1994), and by adding a new airworthiness directive (AD), to read as follows:

Boeing: Docket 2001-NM-341-AD. Revises AD 94-01-10, Amendment 39-8792.

Applicability: Model 757-200 and -200PF series airplanes equipped with Pratt and Whitney PW2000 series engines, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To prevent deployment of a thrust reverser in flight and subsequent reduced controllability of the airplane, accomplish the following:

Inspections/Adjustments/Functional Checks/Modification

(a) Within 14 days after September 16, 1991 (the effective date of AD 91-20-09, amendment 39-8043), accomplish either paragraph (a)(1) or (a)(2) of this AD.

(1) Accomplish both paragraphs (a)(1)(i) and (a)(1)(ii) of this AD:

(i) Inspect the thrust reverser Directional Control Valve (DCV) assemblies of both engines to determine the solenoid-driven pilot valve's part number, in accordance with Boeing Alert Service Bulletin 757-78A0027, dated September 9, 1991.

(A) If any DCV has a suspect pilot valve as specified in the service bulletin, prior to further flight, replace the DCV with a DCV that has a part number of a non-suspect solenoid-driven pilot valve, in accordance with the service bulletin.

(B) If a DCV has a non-suspect solenoid-driven pilot valve as specified in the service bulletin, that pilot valve does not need to be replaced.

(ii) Perform all tests and inspections of the engine thrust reverser control and indication system on both engines in accordance with Boeing Service Bulletin 757-78-0025, dated September 9, 1991. Prior to further flight, correct any discrepancy found in accordance with the service bulletin.

(2) Accomplish paragraph (a)(1) of this AD on one engine's thrust reverser and deactivate the other engine's thrust reverser, in accordance with Section 78-31-1 of Boeing Document D630N002, “Boeing 757 Dispatch Deviation Guide,” Revision 8, dated January 15, 1991.

(b) Within 24 days after September 16, 1991, the requirements of paragraph (a)(1) of this AD must be accomplished on both engines' thrust reverser systems.

(c) Repeat the tests and inspections specified in paragraph (a)(1)(ii) at intervals not to exceed 3,000 flight hours, and prior to further flight following any maintenance that disturbs the thrust reverser control system. Prior to further flight, correct any discrepancy found in accordance with Boeing Service Bulletin 757-78-0025, dated September 9, 1991.

Installation/Functional Test

(d) Within 5 years after March 3, 1994 (the effective date of AD 94-01-10, amendment 39-8792), install an additional thrust reverser system locking feature (sync lock installation), in accordance with Boeing Service Bulletin 757-78-0028, Revision 1, dated October 29, 1992, or Revision 2, dated January 14, 1993.

(e) Within 1,000 hours time-in-service after installing the sync lock required by paragraph (d) of this AD (either in production or by retrofit), or within 1,000 hours time-in-service after March 3, 1994, whichever occurs later; and thereafter at intervals not to exceed 1,000 hours time-in-service: Perform functional tests of the sync lock in accordance with the “Thrust Reverser Sync Lock Integrity Test” procedures specified below. If any discrepancy is found during any test, prior to further flight, correct it in accordance with procedures described in the Boeing 757 Maintenance Manual.

“Thrust Reverser SYNC Lock Integrity Test

1. General

A. Use this procedure to test the integrity of the thrust reverser sync locks.

2. Thrust Reverser Sync Lock Test

A. Prepare for the Thrust Reverser Sync Lock Test.

(1) Open the AUTO SPEEDBRAKE circuit breaker on the overhead circuit breaker panel, P11.

(2) Do the steps that follow to supply power to the thrust reverser system:

(a) Make sure the thrust levers are in the idle position.

Caution: Do Not Extend the Thrust Reverser While the Core Cowl Panels Are Open. Damage to the Thrust Reverser and Core Cowl Panels Can Occur.

(b) Make sure the thrust reverser halves are closed.

(c) Make sure the core cowl panels are closed.

(d) Put the EEC MAINT POWER switch or the EEC POWER L and EEC POWER R switches to the ALTN position.

(e) For the left engine:

(1) Put the EEC MAINT CHANNEL SEL L switch to the AUTO position.

(2) Put the L ENG fire switch to the NORM position.

(f) For the right engine:

(1) Put the EEC MAINT CHANNEL SEL R switch to the AUTO position.

(2) Put the R ENG fire switch to the NORM position.

(g) Make sure the EICAS circuit breakers (6 locations) are closed.

Warning: The Thrust Reverser Will Automatically Retract if the Electrical Power to the EEC/Thrust Reverser Control System Is Turned Off or if the EEC Maint Power Switch Is Moved to the Norm Position. The Accidental Operation of the Thrust Reverser Can Cause Injury to Persons or Damage to Equipment Can Occur.

(h) Make sure these circuit breakers on the main power distribution panel, P6, are closed:

(1) FUEL COND CONT L

(2) FUEL COND CONT R

(3) T/L INTERLOCK L

(4) T/L INTERLOCK R

(5) LEFT T/R SYNC LOCK

(6) RIGHT T/R SYNC LOCK

(7) L ENG ELECTRONIC ENGINE CONTROL ALTN PWR (if installed)

(8) R ENG ELECTRONIC ENGINE CONTROL ALTN PWR (if installed)

(i) Make sure these circuit breakers on the overhead circuit breaker panel, P11, are closed:

(1) AIR/GND SYS 1

(2) AIR/GND SYS 2

(3) LANDING GEAR POS SYS 1

(4) LANDING GEAR POS SYS 2

(j) For the left engine, make sure these circuit breakers on the P11 panel are closed:

(1) LEFT ENGINE PDIU

(2) LEFT ENGINE THRUST REVERSER CONT/SCAV PRESS

(3) LEFT ENGINE ELECTRONIC ENGINE CONTROL ALTN PWR (if installed)

(4) LEFT ENGINE THRUST REVERSER PRI CONT

(5) LEFT ENGINE THRUST REVERSER SEC CONT

(k) For the right engine, make sure these circuit breakers on the P11 panel are closed:

(1) RIGHT ENGINE PDIU

(2) RIGHT ENGINE THRUST REVERSER CONT/SCAV PRESS

(3) RIGHT ENGINE ELECTRONIC ENGINE CONTROL ALTN PWR (if installed)

(4) RIGHT ENGINE THRUST REVERSER PRI CONT

(5) RIGHT ENGINE THRUST REVERSER SEC CONT

(l) Supply electrical power.

(m) Remove the pressure from the left (right) hydraulic system.

B. Do the Thrust Reverser Sync Lock Test.

(1) Move and hold the manual unlock lever on the center actuator on both thrust reverser sleeves to the unlock position.

(2) Make sure the thrust reverser sleeves did not move.

(3) Move the left (right) reverser thrust lever up and rearward to the idle detent position.

(4) Make sure both thrust reverser sleeves move aft (approximately 0.15 to 0.25 inch).

(5) Release the manual unlock lever on the center actuators.

Warning: Make Sure All Persons and Equipment Are Clear of the Area Around the Thrust Reverser. When You Apply Hydraulic Pressure the Thrust Reverser Will Extend and Can Cause Injuries to Persons or Damage to Equipment.

(6) Pressurize the left (right) hydraulic system.

(7) Make sure the thrust reverser extends.

(8) Move the left (right) reverser thrust lever to the fully forward and down position to retract the thrust reverser.

C. Put the Airplane Back to its Usual Condition.

(1) Remove hydraulic pressure.

(2) Close the left and right fan cowls.

(3) Close the AUTO SPEEDBRAKE circuit breaker on the P11 panel.

(4) Remove electrical power if it is not necessary.

D. Repeat the Thrust Reverser Sync Lock Test on the other engine.”

(f) Installation of the sync lock, as required by paragraph (d) of this AD, constitutes terminating action for the requirements of paragraphs (a) through (c) of this AD.

Alternative Methods of Compliance

(g)(1) An alternative method of compliance or adjustment of the compliance time that provides an acceptable level of safety may be used if approved by the Manager, Seattle Aircraft Certification Office (ACO), FAA, Transport Airplane Directorate. Operators shall submit their requests through an appropriate FAA Principal Maintenance Inspector, who may add comments and then send it to the Manager, Seattle ACO.

(2) Alternative methods of compliance, approved previously in accordance with AD 91-20-09, amendment 39-8043; and AD 94-01-10, amendment 39-8792; are approved as alternative methods of compliance with the requirements of this AD.

Note 2: Information concerning the existence of approved alternative methods of compliance with this AD, if any, may be obtained from the Seattle ACO.

Special Flight Permits

(h) Special flight permits may be issued in accordance with sections 21.197 and 21.199 of the Federal Aviation Regulations (14 CFR 21.197 and 21.199) to operate the airplane to a location where the requirements of this AD can be accomplished.

Issued in Renton, Washington, on October 1, 2002.
Ali Bahrami,
Acting Manager, Transport Airplane Directorate, Aircraft Certification Service.

[FR Doc. 02-25604 Filed 10-7-02; 8:45 am]

BILLING CODE 4910-13-P